DEPARTMENT OF LABOR

Employment and Training Administration

[TA-W-51,858]

Occidental Chemical Corp., Castle Hayne, NC; Notice of Termination of Investigation

Pursuant to section 221 of the Trade Act of 1974, as amended, an investigation was initiated on May 22, 2003 in response to a petition filed by a company official on behalf of workers at Occidental Chemical Corp., Castle Hayne, North Carolina.

The Department has deemed this petition invalid. The petition verification revealed that the petition was not signed by the company official named. The company official contacted does not wish to pursue the petition.

Consequently, further investigation would serve no purpose and the investigation has been terminated.

Signed at Washington, DC this 2nd day of June, 2003.
Linda G. Poole,
Certifying Officer, Division of Trade Adjustment Assistance.

[FR Doc. 03-15468 Filed 6-18-03; 8:45 am]

BILLING CODE 4510-30-P